DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before October 9, 2018.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on August 31, 2018.
Donald P. Burger,
Chief, General Approvals and Permits Branch.

Special Permits Data
Application No. | Applicant | Regulation(s) affected | Nature of the special permits thereof
20694-N | NK TECH CO., LTD | 180.205(a), 180.205(c), 180.205(f), 180.205(g), 180.209(a), 180.209(b), 180.209(g) | To authorizes the use of certain DOT Specification 3AA and 3AAX cylinders for the transportation in commerce of the certain compressed gases, when retested by a one hundred percent (100%) ultrasonic examination (UE) in lieu of the internal visual and the hydrostatic retest. (modes 1, 2, 3, 4, 5).
20695-N | CAPTIVE TECHNOLOGIES LLC | 173.166 | To authorize the transportation in commerce of recalled air bag inflators in steel drums as Class 9 instead of 1.4S. (modes 1, 2, 3).
20696-N | THE PROCTER & GAMBLE COMPANY | 173.306(a)(5)(v), 173.306(a)(5)(vi) | To authorize the transportation in commerce by motor vehicle, rail freight, cargo vessel, passenger aircraft and cargo aircraft, of DOT Specification 2S and non-DOT specification plastic aerosols that have been tested by an in-line pressure check in place of the test methods otherwise required as prescribed in § 173.306(a)(5)(v) and (vi) of the HMR. (modes 1, 2, 3, 4, 5).
20697-N | Zoox, Inc | 172.101(j), 173.185(a) | To authorize the transportation in commerce of prototype lithium batteries exceeding 35 kg by cargo-only aircraft. (mode 4).
20701-N | Zhejiang Meenyu Can Industry Co., Ltd | 173.304(a), 173.304(d) | To authorize the manufacture, mark, sale, and use of non-DOT specification receptacles containing certain compressed and liquefied gases. (modes 1, 2, 3).
20702-N | SAMSUNG AUSTIN SEMICONDUCTOR, L.L.C | 173.4, 173.4a | To authorize the transportation in commerce of machinery and equipment containing trace amounts of certain hazardous materials as small or excepted quantities. (modes 1, 3, 4, 5).
20703-N | PERMA-FIX ENVIRONMENTAL SERVICES, INC | 173.420(a)(3), 173.420(a)(6) | To authorize the transportation in commerce of uranium hexafluoride in packaging not authorized in the HMR. (mode 1).
20704-N | BALL AEROSOL AND SPECIALTY CONTAINER INC | 178.33-9(a) | To authorize the manufacture, mark, sale and use of a non-DOT specification inner container, which conforms to all regulations applicable to a DOT specification 2P inner container, except as specified herein, for the transportation in commerce of the materials authorized by this special permit. (modes 1, 2, 3).
20705-N | EXHAUST CENTER, INC | 177.834(h), 178.700(c)(1) | To authorize the manufacture, mark, sale, and use of non-DOT specification steel IBCs conforming to the requirements of UN31A except for capacity. (mode 1).
20706-N | SOUTHERN STATES, LLC | 172.301(c), 173.304(a) | To authorize the transportation in commerce of non-DOT specification cylinders containing compressed sulfur hexafluoride gas. (modes 1, 2, 3, 4).
20707-N | SHARPSVILLE CONTAINER CORPORATION | 178.35 | To authorize the manufacture, mark, sale and use of non-DOT specification stainless steel cylinders conforming to all regulations applicable to DOT specification 4BW cylinders. (mode 1).
20708-N | JAGUAR LAND ROVER NORTH AMERICA, LLC | 172.101(j), 173.185(b)(5) | To authorize the transportation in commerce of lithium batteries by air that exceed the 35 kg weight limit. (mode 4).
20709-N | DAIMLER AG | 172.101(j), 173.185(a) | To authorize the transportation in commerce of prototype and low production lithium ion batteries exceeding 35 kg by cargo-only aircraft. (mode 4).
20710-N | KERR CORPORATION | 173.4a(c)(2), 173.4a(e)(2) | To authorize the transportation in commerce of excepted quantities in alternative packagings and greater quantities. (modes 1, 2, 4, 5).
20776-N | ELI LILLY AND COMPANY | 173.12(b)(2)(i) | To authorize the transportation in commerce of lab packs where the inner packagings must be placed in a chemically compatible liner with sufficient absorbent material to prevent the wetting of the outer packaging. (modes 1, 2, 3).
20777-N | ISRAEL AEROSPACE INDUSTRIES LTD | 172.101(j), 173.56, 173.185(a) | To authorize the transportation in commerce of certain non-DOT specification containers containing certain Division 2.2, and 2.3 compressed gases and other hazardous materials contained in spacecraft. (mode 4).

[FR Doc. 2018-19306 Filed 9-5-18; 8:45 am]

BILLING CODE 4909-60-P